DEPARTMENT OF ENERGY

Federal Energy Regulatory Commission

[Docket No. CP01-416-002]

Sierra Production Company; Notice of Application

October 7, 2003.

Take notice that on September 29, 2003, Sierra Production Company, (Sierra), filed an application seeking to amend its Presidential Permit issued by the Commission on December 28, 2001, in Docket No. CP01-416-000, and amended in Docket No. CP01-416-001 on December 3, 2002, all as more fully set forth in the application on file with the Commission and open to public inspection. This filing may be viewed on the web at http://www.ferc.gov using the “eLibrary (formerly FERRIS) link. Enter the docket number excluding the last three digits in the docket number field to access the document. For assistance, contact FERC Online Support at FERCOnlineSupport@ferc.gov or toll-free at (866) 208-3676, or for TTY, contact (202) 502-8659.

In Sierra's December 3 Presidential Permit, the Commission authorized it to increase its importation service from 5,000 Mcf to 12,000 Mcf per day of natural gas from Southern Alberta, Canada to Montana. Sierra states that subsequent to Commission issuance of its Presidential Permit, additional volumes over and above the amended amount have been proffered by four producers in the immediate area of Sierra's well in Alberta, Canada. Further, Sierra has increased the pipeline size immediately past the permitted facilities to 6-inch pipe which allows Sierra to transport a current capacity of 24,000 Mcf per day which can be accommodated through the permitted facilities. Accordingly, Sierra requests that the Commission amend the Presidential Permit to increase the imported natural gas volume from 12,000 Mcf per day to 24,000 Mcf per day.

Any questions regarding the application should be directed to Sam Baldridge, Petroleum Landman, Business Development, Sierra Production Company, 707 Iowa Avenue, Whitefish, Montana 59937, at (406) 862-0753.

There are two ways to become involved in the Commission's review of this project. First, any person wishing to obtain legal status by becoming a party to the proceedings for this project should, on or before the comment date stated below file with the Federal Energy Regulatory Commission, 888 First Street, NE., Washington, DC 20426, a motion to intervene or a protest in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for mailing of environmental documents issued by the Commission) and will not have the right to seek court review of the Commission's final order.

Comments, protests and interventions may be filed electronically via the Internet in lieu of paper. The Commission strongly encourages electronic filings. See 18 CFR 385.2001(a)(1)(iii) and instructions on the Commission's Web site under the “e-Filing” link.

Comment Date: October 28, 2003.

Linda Mitry,
Acting Secretary.

[FR Doc. 03-26058 Filed 10-14-03; 8:45 am]

BILLING CODE 6717-01-P